FEDERAL COMMUNICATIONS COMMISSION

47 CFR Part 1

[CC Docket No. 96-262; FCC 01-166]

Access Charge Reform

AGENCY: Federal Communications Commission.

ACTION: Proposed rule; withdrawal.

SUMMARY: In this document, the Federal Communications Commission (Commission) considered whether it should terminate its inquiry into the assessment of a presubscribed interexchange carrier charge (PICC) on the special access lines provided by price cap local exchange carriers (LECs) to interexchange carriers and others. Since the Commission began this inquiry, several developments caused the Commission to conclude that it was no longer necessary to consider permitting these LECs to assess PICCs on their special access lines. Accordingly, in this document the Commission terminated its inquiry into the assessment of such charges but it declared that this docket shall remain open for other purposes.

DATES: The inquiry instituted in the proposed rule published June 6, 1997, at 62 FR 31040 is terminated as of July 20, 2001 with respect to the Commission's proposal to permit price cap LECs to assess a PICC on their special access lines.

FOR FURTHER INFORMATION CONTACT: Richard Lerner, Deputy Chief, Competitive Pricing Division, at (202) 418-1520, or Allen A. Barna, General Attorney, Competitive Pricing Division, at (202) 418-1536. The address is Competitive Pricing Division, Common Carrier Bureau, Federal Communications Commission, 445 12th Street, SW., Washington, DC 20554.

SUPPLEMENTARY INFORMATION: This is a summary of the Commission's Order in CC Docket No. 96-262, FCC 01-166, Access Charge Reform, adopted May 17, 2001, and released on May 21, 2001. The full text of this document is available for public inspection Monday through Thursday from 8:00 a.m. to 4:30 p.m. and Friday from 8:00 a.m. to 11:30 a.m. in the FCC Reference Center, Room CY-A257, 445 12th Street, SW, Washington, DC 20554. The complete text of the document may be purchased from the Commission's duplicating contractor, ITS, Inc., at 1231 20th Street NW, Washington, DC 20036 (202-857-3800). This Order contains no new or modified information collections subject to the Paperwork Reduction Act of 1995, Public Law 104-13.

Synopsis of the Order

In the Further Notice of Proposed Rulemaking ¹ included in Access Charge Reform, Price Cap Performance Review for Local Exchange Carriers, Transport Rate Structure and Pricing, End User Common Line Charges, First Report and Order, in CC Docket Nos. 96-262, 94-1, 91-213, 95-72, 12 FCC Rcd 15982, 16155 (1997), 62 FR 31868 (June 11, 1997) (First Report and Order), aff'd, Southwestern Bell Telephone Co. v. FCC, 153 F.3d 523 (8th Cir. 1998), the Commission tentatively concluded that it should permit price cap LECs to assess a PICC on their special access lines to enable them to recover some of the common line costs assigned to the federal jurisdiction that they incur in providing switched access service to residential and single line business lines. Commenters unanimously opposed that proposal. In this Order, the Commission declined to permit the assessment of such special access PICCs and terminated its inquiry into such an assessment.

¹ See proposed rule published at 62 FR 31040 (June 6, 1997).

Final Regulatory Flexibility Analysis

As required by the Regulatory Flexibility Act (RFA), 5 U.S.C. 603, the First Report and Order included an Initial Regulatory Flexibility Analysis (IRFA) with reference to the Further Notice of Proposed Rulemaking found therein. First Report and Order, 12 FCC Rcd at 16170-16172. In the IRFA, the Commission noted that there were thirteen incumbent price cap LECs at that time, that it had limited to those LECs the scope of its proposal to permit the assessment of PICCs on special access lines, and that it had tentatively concluded that each of those LECs had more than 1500 employees and, therefore, that none was a small entity. First Report and Order, 12 FCC Rcd at 16171-16172. The Commission sought public comment on its special access PICC proposal, its tentative conclusions, and the related IRFA. No comments were received concerning the conclusion that those price cap carriers were not small entities, the limitation of the special access PICC proposal to such carriers, or the related provisions of the IRFA.

As of April 30 of this year, four Regional Bell Operating Companies and eight other LECs were subject to price cap regulation. See Material to be Filed in Support of 2001 Annual Access Tariff Filings, Tariff Review Plans, DA 01-1105 (Com.Car.Bur., Comp. Pricing Div., Apr. 30, 2001), para. 3. While one or more of these eight other LECs may have less than 1500 employees, the Order will not have a significant economic impact on those LECs or any other small entities for the reasons set forth in the following paragraph. This Final Regulatory Flexibility Analysis conforms to the RFA, as amended by the Small Business Regulatory Enforcement Fairness Act of 1966 (SBREFA), 5 U.S.C. 801(a)(1)(A).

Under the RFA, there will not be a significant economic impact on a substantial number of small entities resulting from this Order. As explained above, this Order simply terminates the Commission's inquiry into whether it should permit price cap LECs to assess PICCs on their special access lines to enable them to recover some of their common line costs. Because this Order does not require or otherwise authorize any change in the provision of access services or the recovery of common line costs by these carriers, there will not be any significant economic impact on these carriers or on any of their customers including small entities. The Commission will send a copy of this Order, including this final certification, to Congress pursuant to the SBREFA, see 5 U.S.C. 801 (a)(1)(A), and another copy to the Chief Counsel for Advocacy of the Small Business Administration, see 5 U.S.C. 605(b).

Ordering Clause

Pursuant to the authority contained in sections 1, 4(i), 4(j), 201-209, and 403 of the Communications Act of 1934, as amended, 47 U.S.C. 151, 154(i), 154(j), 201-209, and 403, that the inquiry initiated in CC Docket No. 96-262 into the assessment by price cap carriers of a presubscribed interexchange carrier charge on their special access lines is hereby TERMINATED but that this docket shall REMAIN OPEN for other purposes.

List of Subjects in 47 CFR Part 1

Communications common carriers, Telecommunications.

Federal Communications Commission.
Magalie Roman Salas,
Secretary.

[FR Doc. 01-17499 Filed 7-19-01; 8:45 am]

BILLING CODE 6712-01-P